DEPARTMENT OF LABOR

Employment and Training Administration

[TA-W-55,078]

N.E.W. Plastics Corp., Coleman, WI; Notice of Termination of Investigation

Pursuant to section 221 of the Trade Act of 1974, as amended, an investigation was initiated on June 15, 2004, in response to a petition filed by a company official on behalf of workers at N.E.W. Plastics Corporation, Coleman, Wisconsin.

The petitioner has requested that the petition be withdrawn. Consequently, the investigation has been terminated.

Signed at Washington, DC, this 6th day of July, 2004.
Linda G. Poole,
Certifying Officer, Division of Trade Adjustment Assistance.

[FR Doc. 04-16423 Filed 7-19-04; 8:45 am]

BILLING CODE 4510-30-P